ENVIRONMENTAL PROTECTION AGENCY

[FRL-6539-3]

Casmalia Disposal Site; Notice of Proposed CERCLA Administrative De Minimis Settlement

AGENCY: Environmental Protection Agency.

ACTION: Notice; request for public comment.

SUMMARY: In accordance with section 122(i) of the Comprehensive Environmental Response, Compensation, and Liability Act, as amended (“CERCLA”), 42 U.S.C. 9622(i), the Environmental Protection Agency (“EPA”) is hereby providing notice of a proposed administrative de minimis settlement concerning the Casmalia Disposal Site in Santa Barbara County, California (“the Casmalia Disposal Site”). Section 122(g) of CERCLA, 42 U.S.C. 9622(g), provides EPA with the authority to enter into administrative de minimis settlements. This settlement is intended to resolve the liabilities of 433 settling parties for the Casmalia Disposal Site under CERCLA and section 7003 of the Resource Conservation and Recovery Act (“RCRA”), 42 U.S.C. 6973. For most of the settling parties, the settlement will also resolve their Casmalia Disposal Site-related liability for the response costs for the federal Natural Resources Trustees' (the United States Fish and Wildlife Service, the National Oceanic and Atmospheric Administration, and the United States Department of the Air Force), and potential natural resource damages. The settling parties will pay a total of $27.6 million toward Casmalia Disposal Site response costs.

For thirty (30) days following the date of publication of this notice, EPA will receive written comments relating to the settlement. In accordance with section 7003(d) of RCRA, 42 U.S.C. 6973(d), commenters may request an opportunity for a public meeting in the affected area. EPA will consider all comments it receives during this period, and may modify or withdraw its consent to the settlement if any comments disclose facts or considerations indicating that the settlement is inappropriate, improper, or inadequate.

DATES: Comments must be submitted on or before April 14, 2000.

ADDRESSES: Comments and requests for a public meeting should be addressed to the Regional Hearing Clerk, U.S. EPA Region IX (ORC-1), 75 Hawthorne Street, San Francisco, CA 94105-3901, and should refer to: Casmalia Disposal Site, Santa Barbara County, CA, U.S. EPA Docket No. 99-02(a). The proposed settlement and additional background information relating to the settlement are available for inspection, and EPA's response to any comments received will be available for inspection, at the U. S. EPA Region IX Superfund Records Center (415-536-2000), 95 Hawthorne Street, Suite 403 S, San Francisco, CA 94105-3901 and at the Santa Maria Library (805-925-0994), 420 South Broadway, Santa Maria, CA 93454. A copy of the proposed Administrative Order on Consent may be obtained from the Regional Hearing Clerk at the address provided above.

SUPPLEMENTARY INFORMATION: The following are parties to this de minimis settlement:

A & H Plating, Inc.; Accuride International; Acme Metals Inc.; Action Computer Products Sales Inc.; Air Industries Corp.; Air Logistics Corporation; Air Products and Chemicals, Inc.; AJ Daw Printing Ink Co.; Akzo Nobel Coatings; Alflex Corp.; Allan Hancock Joint Community College; Allergan Inc.; Alliant Foodservice, Inc.; Alma Pistons Co./Tomadur Engine Co.; Al's Plating Company Inc.; Alvord Unified School District; Alyeska Pipeline Service; American Broadcasting Company; American Honda Motor Co.; Ameron International Corp.; Amico West; Amtrak—National Railroad Passenger Corp; A.O. Smith; Angelus Sanitary Can Machine Co.; Anheuser-Busch Companies; Applied Power Inc.; Arcadia Unified School District; Armtec Defense Products; Ashland Specialty Chemical Company, a Division of Ashland Inc.; Asphalt Products Oil Corp.; Associates Insectary; Astech/MCI Manufacturing; Astro Pak Corporation; Atlas Galvanizing; Avery Dennison; Aviall Service Inc.; Baker Petrolite; Ball Corp.; Bandag Incorporated; Bank America; BASF Corp.; Basic Vegetable Products; Baxter Healthcare; Benjamin Moore & Co.; Bently Nevada Corp.; Berkshire Hathaway; Bethlehem Steel Corp.; Beylik Drilling Inc.; BFI Waste Systems of North America; BHP Coated Steel Corporation; Bio-Rad Laboratories; BMC Industries Inc.; BOC Gases; Borg-Warner Automotive, Inc. (including Borg-Warner Security Corporation, f/k/a Borg-Warner Corporation, n/k/a Burns International Services Corporation, and Flowserve Corporation, f/k/a BW/IP International, Inc.); Bregin, Inc.; Brown Pacific Inc.; Brush Wellman Inc.; Cabrillo Community College District; California Finished Metals; California Highway Patrol; California Institue of Technology; California Office of State Printing; California Regional Water Quality Control Board, North Coast Region; California State Compensation Insurance Fund; California Steel Industries; California Technical Plating Inc.; Camco International Inc.; Camsco Residential; Carrier Corp.; Case Corporation; Central Santa Clara County Regional; Ceradyne Inc.; Cerritos Community College; Chabot-Las Positas Community College District; Chaffey Community College District; Champion Technologies, Inc.; Charter Community Hospital; Chemron Corp.; CHW Central Coast-Marian Hospital; CIPCO Inc.; Citrus Community College; City of Azusa; City of Carlsbad; City of Guadalupe; City of Monrovia; City of Mountain View; City of Norwalk; City of Richmond; City of Riverside; City of San Marino; City of Santa Paula; City of Sunnyvale; City of Thousand Oaks; City of Torrance; City of Vernon; Clougherty Packing Co.; CNF Transportation Inc.; Coast Community College District; Coca-Cola Enterprises; Coherent Incorporated; Cohu Inc. Electronics; Colonial Heights Packaging Inc., on behalf of Milprint and Bemis Company, Inc.; Cominer Corporation; Commonwealth Aluminum Concast, Inc.; Conejo Circuits Inc.; Consolidated Drum Reconditioning; Consolidated Fabricators Corp.; Construction Specialties (California), Inc.; Continental Materials Corp.; Contra Costa Community College District; Conway Oil Company; Cooper Industries; Cosmotronic Company; County of Contra Costa; County of Marin; County of Riverside; County of Sacramento; County of San Benito; County of San Joaquin; County of Santa Barbara; County of Santa Clara; County of Ventura; CoxCom Inc.; Crane Company (including Hydro Aire, Inc., Barksdale, Inc., and Pacific Valves); Crowley Maritime Corporation; Cubic Corp; Culligan Industrial Water Purification; Culligan International & Culligan Water Conditioning; Cytec Industries; D & S Industries; Daimler Chrysler; Decalta International; Delta Airlines; Deluxe Packages; Diagnostic Products; Diversey Corp. (n/k/a Raython Corp.); Don E. Keith Transportation; Downey Glass; Dunn Edwards Corporation; Dura-Bond Bearing Co./SKF USA, Inc.; E & T LLC; Eastman Kodak; Eaton Corporation; EDO Corporation; El Camino Community College; Electromatic Inc.; Electronic Plating Services; Elf Atochem North America Inc.; Elixir Industries Corp.; Embee Inc.; Emerson Electric Co.; Energy Factors Inc; Enthone OMI Inc.; Ernest Carlson; ESCO Electronics Corporation; Estate of Elfrida Hanchett and Hanchett Family Corp.; EXAR Corporation; Exide Corporation; Facet Energy (Gammaloy Ltd.); Fansteel Corp.; Far Best Corporation; Farr Co.; Fedco Inc.; Federal Bureau of Prisons; Federal Express Corporation; Federal Mogul; Federal Reserve Bank of San Francisco; Finegood Holdings Inc.; Fleetwood Enterprises Inc.; FMC Corp.; Foothill-DeAnza Community College District; Frazee Industries; Fremont Newark Community College District; GATX Corp.; Genentech Inc; Genlyte Thomas Group; George Industries; Gillette SMMC; Glendale Community College District; Glendale Development Corporation (f/k/a Glenfed Development Corporation); Goleta Union School District; Great Lakes Chemical Corp.; Great Spring Waters of America, Inc.; Great Western Chemical; Grossmont Cuyamaca Community College; H & H Paramount, Ltd.; Hanson Permanente Cement Inc.; Hartnell Community College District; Hawthorne/Stone Real Estate; Holmes Tuttle Ford Inc.; Hooker Industries; Hurst Chemical; ICN Pharmaceuticals Inc.; Industrial Wire Products Corp.; Ingersoll-Rand Company; Intel Corporation; Intermetro; International Extrusion Corporation; International Paint HD & Marine; International Paper Company; JASCO Chemical Corp.; Jensen General Contractors; Johns Manville International Inc.; Joslyn Manufacturing Corp.; J.R. Simplot Company; Julius L. Zelman Co.; Jurupa Unified School District; Kaiser Aerospace and Electronics Corporation; Kalex Chemical Products (including Ellay, Inc.); Kamei International Corp.; Kern Community College; Kern County; Kern Industries; Kimball International Inc.; Kinder Morgan Energy Partners; Kinsbursky Brothers Supply Inc.; Koch Industries; Koppers Industries (n/k/a Beazer East Inc.); Leggett & Platt, Incorporated (including Bedline Manufacturing, a division of Leggett & Platt Inc., and L & P Property Management Company dba L & P PMC, Inc.); Levin-Richmond Terminal Corp. (a/k/a Levin Enterprises Inc.); Lindberg Corporation; Lindberg Heat Treating Co. (including Industrial Steel Treating); Lodi Door-Overhead Door Corp.; Long Beach Community Medical Center; Long Beach Memorial Hospital; Long Beach Unified School District; Longview Fibre Company; Los Angeles Chemical Co.; Los Angeles Community College District; Los Angeles County Metropolitan Transit Authority; Los Angeles Galvanizing Co.; Los Angeles Office of Education (Long Beach Community College); Los Angeles Times, Division of Times Mirror; Los Rios Community College District; Lubeco Inc.; Magna Plating Co. Inc.; Mandalay Properties; Marin Community College District; Master Halco Inc.; Matheson Tri-Gas Inc., (f/k/a Matheson Gas Products); Matlack Inc.; Matson Navigation Co.; Mattel Inc.; Maytag Corp.; Mazda Motors of America; M.C. Gill Corporation; McKesson HBOC Inc.; McKesson Water Products Company; Mechanical Metal Finishing Co.; Merced Community College; Mercy Healthcare Sacramento; Mesa Center Automotive; Metal Container Corporation of California; Methodist Hospital of Arcadia; MGF Industries; Milard Group; Minnesota Mining and Manufacturing (including Imation Corporation); Mission Industries (f/k/a Mission Linen Supply); Mission Valley Ford Trucks; Modesto City Schools; Modine Manufacturing Company; Monrovia Unified School District; Montrose Chemical Corp.; Motorola Inc. Semiconductor; Mt. San Antonio Community College District; Mt. San Jacinto Community College District; Mountain View-Los Altos High School District; NAPP Systems Inc.; NASA Ames Research Center; NASA Jet Propulsion Laboratory; National Steel and Shipbuilding; National Supply Company; Neville Chemical Co.; North Orange Community College District; Northwest Pipe Company (f/k/a Northwest Pipe and Casing); Norwalk-La Mirada Unified School District; O'Connor Hospital; Oakdale Memorial Park Inc.; Occidental Chemical Corporation (successor to Diamond Shamrock Chemicals Company); Ogden Food Products (including Ogden Corporation); Olin Corporation; Olocco Agricultural Services; ORC Technologies Inc. (f/k/a Optical Radiation Corporation); Osbourne United; OSCA Inc.; Oxnard Pest Control Association; PAC Foundry; Pacific Coast Drum Company; Pacific Refining; Pacific Tube Company; Palomar Community College District; Parker Hannifin Corp.; Pasadena Area Community College; Pennzoil-Quaker State Company (including PennzEnergy Exploration and Production, L.L.C.); Pentrate Metal Processing, Inc.; Petrolite Corporation; Pilot Chemical; Pioneer North America Inc. (including Pioneer Video Manufacturing Inc. and DiscoVision Associates); Plastic Materials Inc.; Pool California Energy Services; Pool Energy Services; Port of San Diego; Poway Unified School District; PQ Corp.; PRC-DeSoto International Inc.; Prime Alloy Steel Castings; Primex Technologies Inc.; Printronix; Products Engineering Corp.; Prudential General Real Estate; Prudential Lighting Corporation; Public Storage Inc.; Ralston Purina Company; Rancho Santiago Community College District; Revlon Inc.; Rheem Manufacturing Co.; Riverside Cement Co.; Riverside Community Hopsital; Riverside Superintendent of Schools; Riverside Unified School District; Rogers Corporation; RR Donnelley & Sons; Sacramento County Sanitation District 1; Sacramento Municipal Utilities District; Sage Energy Company; San Bernadino Community College District; San Diego Community College District; Sandia National Laboratory; San Diego Metropolitan Transit Development Board; San Francisco Community College; San Joaquin Refining; San Jose Evergreen Community College District; San Luis Obispo County Community College District; Santa Barbara Community College District; Santa Clara County Transit; Santa Monica Community College District; Sanyo E & E Corp.; Schmid Insulation Contractors, Inc.; Scripps Clinic and Research Foundation; Sears, Roebuck & Co.; Sequa Corporation; Shasta-Tehama-Trinity Community College District; Siebe Inc.; Sierracin Corp.; Sigma Circuits Inc.; Sigma Plating Co., Inc.; Signetics Corp.; Siliconix, Inc.; Smith International; Sonoma County Community College District; Sony Technology; Soule Steel—Arnon Liquidating Agency; South Orange Community College District; Spectra-Physics Lasers, Inc.; SRI International; ST & I; Standex International Corp.; Stanford University; State Center Community College District; Steelcase, Inc.; Stepan Company; STI Properties Inc. c/o Hemisphere Corporation; St. Mary's Medical Center; Sunnyvale School District; Superior Industries International Inc.; Supra Alloys Inc.; Taormina Industries; Technicolor Film Service; Ted Levine Drum Co.; Tesoro Petroleum Companies; Texas Instruments; The Archdiocese of Los Angeles; The Bekins Company; The Interlake Corporation; The Marmon Corporation; The Mead Corporation; The Okonite Co.; The Valspar Corp.; Three Bond International Inc.; Time Warner Inc.; Torrance Unified School District; Transtechnology Corp.; Treasure Chest Advertising; Tree Island Industries Ltd.; Tricast, Inc.; Tri Valley Growers; Tucson Electric Power Co.; TWA Airlines; Tyco Printed Circuit Group; Union Bank of California; Union Carbide; United Air Lines; United States Sales Corporation; University of Southern California; US Army; US Borax; US Border Patrol; US Bureau of Indian Affairs; US Bureau of Land Management; US Bureau of Reclamation; US Customs Service; US Department of Agriculture; US Department of Defense; US Department of Energy; US Department of Health and Human Services; US Department of Immigration and Naturalization Services; US Department of Transportation/FAA; US Drug Enforcement Administration; US Federal Bureau of Investigation; US Fish and Wildlife Service; US General Services Administration; US Geological Survey; US Marshall Service; US Mint; US Park Service; US Small Business Administration; Ventura County Community College District; Verdugo Hill Golf Course; Vesper Corp.; Virco Manufacturing Corp.; VWR Corporation; WAISCO (Marwais Steel Co.); Walt Disney Co.; Walt Disney Pictures & Television; Watkins-Johnson Co.; Weber Metals Inc.; West Valley-Mission Community College District; Western Fuel Oil Company; Western Tube & Conduit Corp.; Westminster Ceramics, Inc.; Wheaton USA Inc.; Xerox Corporation; Yosemite Community College District; Zero Corporation.

FOR FURTHER INFORMATION CONTACT: Karen Goldberg, Assistant Regional Counsel, U.S. EPA Region IX (ORC-3), 75 Hawthorne Street, San Francisco, CA 94105-3901; E-Mail: goldberg.karen@epa.gov; Tel: (415) 744-1382.

Dated: March 8, 2000.
Julie Anderson,
Director, Waste Management Division, Region IX.

[FR Doc. 00-6395 Filed 3-14-00; 8:45 am]

BILLING CODE 6560-50-P